DEPARTMENT OF HOMELAND SECURITY

U.S. Customs and Border Protection

8 CFR Part 235

[CBP Dec. 09-18]

Western Hemisphere Travel Initiative: Designation of Enhanced Driver's Licenses and Identity Documents Issued by the States of Vermont and Michigan and the Provinces of Quebec, Manitoba, British Columbia, and Ontario as Acceptable Documents To Denote Identity and Citizenship

AGENCY: U.S. Customs and Border Protection, Department of Homeland Security.

ACTION: Notice.

SUMMARY: This document announces that the Commissioner of U.S. Customs and Border Protection is designating enhanced driver's licenses and identification documents issued by the States of Vermont and Michigan and the Canadian Provinces of Quebec, Manitoba, British Columbia, and Ontario as acceptable documents for purposes of the Western Hemisphere Travel Initiative. These documents may be used to denote identity and citizenship of, as appropriate, U.S. or Canadian citizens entering the United States from within the Western Hemisphere at land and sea ports of entry.

DATES: This designation is effective on June 1, 2009.

FOR FURTHER INFORMATION CONTACT: Colleen Manaher, Western Hemisphere Travel Initiative, U.S. Customs and Border Protection, 1300 Pennsylvania Avenue, NW., Washington, DC 20229, 202-344-1220.

SUPPLEMENTARY INFORMATION:

Background

The Western Hemisphere Travel Initiative

The Intelligence Reform and Terrorism Prevention Act of 2004 (IRTPA), Public Law 108-458, 118 Stat. 3638 (Dec. 17, 2004), as amended, provides that upon full implementation, U.S. citizens and Bermudian, Canadian, and Mexican nationals will be required to present a passport or such alternative documents as the Secretary of Homeland Security (Secretary) designates as satisfactorily establishing identity and citizenship when entering the United States. See 8 U.S.C. 1185 note. On April 3, 2008, the Department of Homeland Security (DHS) and the Department of State (DOS) promulgated a joint final rule, effective on June 1, 2009, that implements the Western Hemisphere Travel Initiative (WHTI) at U.S. land and sea ports of entry. See 73 FR 18384 (the land and sea final rule). The land and sea final rule specifies the documents that U.S. citizens and nonimmigrant aliens from Canada, Bermuda, and Mexico will be required to present when entering the United States at land and sea ports of entry from within the Western Hemisphere (which includes contiguous territories and adjacent islands of the United States).

Under the land and sea final rule, one type of citizenship and identity document that U.S. or Canadian citizens may present upon entry to the United States is an enhanced driver's license or identification document ¹ (EDL) designated as an acceptable document to denote identity and citizenship by the Secretary, pursuant to section 7209 of IRTPA, as amended. Section 235.1(d) of title 8 of the Code of Federal Regulations (CFR), as amended by the WHTI land and sea final rule, states:

¹ The “enhanced driver's license or identification document” may be in one of two forms, as decided by the issuing authority, provided that the document (card) denotes identity and citizenship and meets technical requirements: (1) An enhanced driver's license or (2) an enhanced identity card. The designation “EDL” covers both documents.

Upon the designation by the Secretary of Homeland Security of an enhanced driver's license as an acceptable document to denote identity and citizenship for purposes of entering the United States, U.S. citizens and Canadians may be permitted to present these documents in lieu of a passport upon entering or seeking admission to the United States according to the terms of the agreements entered between the Secretary of Homeland Security and the entity. The Secretary of Homeland Security will announce, by publication of a notice in the Federal Register, documents designated under this paragraph. A list of designated documents will also be made available to the public.

EDL Programs

DHS is committed to working with the various States of the United States and the Government of Canada to facilitate the development of State and province-issued EDLs as travel documents that denote identity and citizenship. To establish an EDL program, each State or province ² must enter into an agreement with DHS or U.S. Customs and Border Protection (CBP) to develop an acceptable EDL document. Each EDL program is specific to each State or province based on specific factors, such as the State's or province's funding, technology, and other developments and implementation factors. Acceptable EDL documents must have compatible technology and security criteria, and must respond to CBP's operational concerns. The EDL must include technologies that facilitate inspection at ports of entry. EDL documents also must be issued via a secure process and include technology that facilitates travel to satisfy WHTI requirements.

² For a province of Canada, the agreement will be between DHS/CBP and the Canada Border Services Agency working with and representing the province.

On an ongoing basis, DHS will announce, by publication of a notice in the Federal Register, that a State's and/or province's EDL has been designated as a WHTI-compliant document for purposes of entering the United States by land or sea from within the Western Hemisphere. (See the designations at 73 FR 18421 (April 3, 2008) for EDLs issued by the State of Washington and at 73 FR 73343 (December 2, 2008) for EDLs issued by the State of New York.) DHS will make available to the public a list of the documents designated as WHTI compliant. A list of States and provinces that issue EDLs is available at http://www.getyouhome.gov. The Secretary delegated to the Commissioner of CBP the authority to designate certain documents as acceptable border crossing documents for persons arriving in the United States by land or sea from within the Western Hemisphere, including State-specific enhanced driver's licenses and identity documents and Canadian province-specific enhanced driver's licenses and identity documents.

Vermont EDL Program

Vermont has established a voluntary program to develop enhanced driver's licenses and identification cards (EDLs) that would denote identity and U.S. citizenship. On September 26, 2007, DHS and the State of Vermont signed a Memorandum of Agreement (MOA) to develop, issue, test, and evaluate EDLs with facilitative technology to be used for border crossing purposes. On February 15, 2008, CBP approved the plan outlining the business process for the implementation of the Vermont EDL program. Under the terms of this MOA and business plan, Vermont EDLs will be issued only to Vermont residents that can establish both identity and U.S. citizenship.

Following successful field and technical testing, the Commissioner of CBP has determined that the EDLs issued by the State of Vermont according to the terms of the above agreement and business plan meet the requirements of section 7209 of the IRTPA and are acceptable documents to denote identity and U.S. citizenship for purposes of entering the United States at land and sea ports of entry from within the Western Hemisphere under the final rule.

Michigan EDL Program

Michigan has established a voluntary program to develop enhanced driver's licenses and identification cards (EDLs) that would denote identity and U.S. citizenship. On October 13, 2008, DHS and the State of Michigan signed a Memorandum of Agreement (MOA) to develop, issue, test, and evaluate EDLs with facilitative technology to be used for border crossing purposes. On the same date, CBP and the State of Michigan reached agreement on the plan outlining the business process for the implementation of the Michigan EDL program. Under the terms of this MOA and business plan, Michigan EDLs will be issued only to Michigan residents that can establish both identity and U.S. citizenship.

Following successful field and technical testing, the Commissioner of CBP has determined that the EDLs issued by the State of Michigan according to the terms of the above agreement and business plan meet the requirements of section 7209 of the IRTPA and are acceptable documents to denote identity and U.S. citizenship for purposes of entering the United States at land and sea ports of entry from within the Western Hemisphere under the final rule.

Quebec EDL Program

The Province of Quebec has established a voluntary program to develop an enhanced driver's license that would denote identity and Canadian citizenship. On April 1, 2008, CBP and the Canada Border Services Agency (CBSA) entered into a Memorandum of Understanding Regarding the Use, Disclosure and Storage of Canadian Enhanced Driver's License Information relating to CBP's access to EDL information for documents, including the Quebec EDL for border crossing purposes. On January 16, 2009, following negotiations between CBP and the Canadian and Quebec governments in November 2008, the CBSA and Citizenship and Immigration Canada transmitted to CBP the Province of Quebec's official business plan outlining the approach and process by which the Société de l'assurance automobile du Québec (SAAQ) will make available enhanced driver's licenses and identification cards to qualified Canadian citizens residing in the Province of Quebec. On February 2, 2009, CBP determined that, contingent upon successful technical testing, SAAQ Driver's Licenses Plus produced in accordance with the Province of Quebec's business plan were anticipated to be designated as documents denoting identity and Canadian citizenship for purposes of entering the United States by land or sea.

Following successful field and technical testing, the Commissioner of CBP has determined that Driver's Licenses Plus issued by the Province of Quebec according to the terms of the business plan approved by CBP meet the requirements of section 7209 of the IRTPA and are acceptable documents to denote identity and Canadian citizenship for purposes of entering the United States at land and sea ports of entry from within the Western Hemisphere under the final rule.

Manitoba EDL Program

The Province of Manitoba has established a voluntary program to develop enhanced driver's licenses and identification cards (EDLs) that would denote identity and Canadian citizenship. On April 1, 2008, CBP and the CBSA entered into a Memorandum of Understanding Regarding the Use, Disclosure and Storage of Canadian Enhanced Driver's License Information relating to CBP's access to EDL information for documents, including the Manitoba EDL for border crossing purposes. On June 12, 2008, following negotiations between CBP and the Canadian and Manitoba governments, the CBSA and Citizenship and Immigration Canada transmitted to CBP the Province of Manitoba's official business plan outlining the approach and process by which Manitoba will make available EDLs to qualified Canadian citizens residing in the Province of Manitoba. On July 3, 2008, CBP determined that, contingent upon successful technical testing, Manitoba EDLs produced in accordance with the Province of Manitoba's business plan were anticipated to be designated as documents denoting identity and Canadian citizenship for purposes of entering the United States by land or sea.

Following successful field and technical testing, the Commissioner of CBP has determined that the EDLs issued by the Province of Manitoba according to the terms of the business plan approved by CBP meet the requirements of section 7209 of the IRTPA and are acceptable documents to denote identity and Canadian citizenship for purposes of entering the United States at land and sea ports of entry from within the Western Hemisphere under the final rule.

British Columbia EDL Program

The Province of British Columbia has established a voluntary program to develop enhanced driver's licenses and identification cards (EDLs) that would denote identity and Canadian citizenship. On April 1, 2008, CBP and the CBSA entered into a Memorandum of Understanding Regarding the Use, Disclosure and Storage of Canadian Enhanced Driver's License Information relating to CBP's access to EDL information for documents, including the British Columbia EDL for border crossing purposes. On April 9, 2009, following negotiations between CBP and the Canadian and British Columbia governments, the CBSA and Citizenship and Immigration Canada transmitted to CBP the Province of British Columbia's official business plan outlining the approach and process by which British Columbia will make available EDLs to qualified Canadian citizens residing in the Province of British Columbia. On April 16, 2009, CBP determined that, contingent upon successful technical testing, British Columbia's EDLs produced in accordance with the province's business plan were anticipated to be designated as documents denoting identity and Canadian citizenship for purposes of entering the United States by land or sea.

Following successful field and technical testing, the Commissioner of CBP has determined that the EDLs issued by the Province of British Columbia according to the terms of the business plan approved by CBP meet the requirements of section 7209 of the IRTPA and are acceptable documents to denote identity and Canadian citizenship for purposes of entering the United States at land and sea ports of entry from within the Western Hemisphere under the final rule.

Ontario EDL Program

The Province of Ontario has established a voluntary program to develop enhanced driver's licenses and identification cards (EDLs). On April 1, 2008, CBP and CBSA entered into a Memorandum of Understanding Regarding the Use, Disclosure and Storage of Canadian Enhanced Driver's License Information relating to CBP's access to EDL information for documents, including the Ontario EDL for border crossing purposes. On May 6, 2009, following negotiations between the parties, CBSA transmitted to CBP the Province of Ontario's official business plan outlining the approach and process by which Ontario will make available EDLs to qualified Canadian citizens residing in the Province of Ontario. On May 11, 2009, CBP determined that, contingent upon successful technical testing, Ontario EDL's produced in accordance with the Province of Ontario's business plan were anticipated to be designated as documents denoting identity and Canadian citizenship for purposes of entering the United States by land or sea.

Following successful field and technical testing, the Commissioner of CBP has determined that the EDLs issued by the Province of Ontario according to the terms of the business plan approved by CBP meet the requirements of section 7209 of the IRTPA and are acceptable documents to denote identity and Canadian citizenship for purposes of entering the United States at land and sea ports of entry from within the Western Hemisphere under the final rule.

Designation

This notice announces that the Commissioner of CBP has designated the EDLs issued by the States of Vermont and Michigan and the Provinces of Quebec, Manitoba, British Columbia, and Ontario as acceptable documents to denote identity and citizenship for purposes of entering the United States at land and sea ports of entry from within the Western Hemisphere, pursuant to section 7209 of IRTPA and the final rule, 8 CFR 235.1(d)

Dated: May 20, 2009.
Jayson P. Ahern,
Acting Commissioner, Customs and Border Protection.

[FR Doc. E9-12513 Filed 5-28-09; 8:45 am]

BILLING CODE 9111-14-P